SECURITIES AND EXCHANGE COMMISSION

[Release No. 34-64312; File No. SR-NASDAQ-2011-053]

Self-Regulatory Organizations; The NASDAQ Stock Market LLC; Notice of Filing and Immediate Effectiveness of Proposed Rule Change To Adopt an Order Price Protection Feature

Correction

In notice document 2011-9971 appearing on pages 23351-23352 in the issue of Tuesday, April 26, 2011, make the following correction:

On page 23352, in the second column, in the last line “May 16, 2011” should read “May 17, 2011”.

[FR Doc. C1-2011-9971 Filed 5-4-11; 8:45 am]

BILLING CODE 1505-01-D